DEPARTMENT OF TRANSPORTATION

Federal Aviation Administration

14 CFR Part 39

[Docket No. 2003-CE-19-AD]

RIN 2120-AA64

Airworthiness Directives; Kidde Aerospace Part Number (P/N) 898052 Hand-held Halon Fire Extinguishers

AGENCY: Federal Aviation Administration, DOT.

ACTION: Notice of proposed rulemaking (NPRM).

SUMMARY: This document proposes to adopt a new airworthiness directive (AD) that would apply to certain Kidde Aerospace P/N 898052 hand-held halon fire extinguishers that are utilized on aircraft. This proposed AD would require you to remove the affected fire extinguishers from service and would prevent you from using them in the future. This proposed AD is the result of information that shows that the discharge time of the affected fire extinguishers exceeds the maximum allowable discharge time. The problem is due to incomplete crimping of the siphon tube. The actions specified by this proposed AD are intended to remove from service fire extinguishers that had this incomplete crimping of the siphon tube. If not removed from service, these fire extinguishers could function at diminished levels and compromise the level of safety in an emergency situation.

DATES: The Federal Aviation Administration (FAA) must receive any comments on this proposed rule on or before July 14, 2003.

ADDRESSES: Submit comments to FAA, Central Region, Office of the Regional Counsel, Attention: Rules Docket No. 2003-CE-19-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-19-AD” in the subject line. If you send comments electronically as attached electronic files, the files must be formatted in Microsoft Word 97 for Windows or ASCII text.

You may get service information that applies to this proposed AD from Kidde Aerospace, Kidde Technologies, Inc., 4200 Airport Drive, NW., Wilson, North Carolina 27896; telephone: (252) 237-7004. You may also view this information at the Rules Docket at the address above.

FOR FURTHER INFORMATION CONTACT: Charles H. Bowser, Flight Test Engineer, FAA, Atlanta Aircraft Certification Office, One Crown Center, 1895 Phoenix Boulevard, Suite 450, Atlanta, Georgia 30349; telephone: (770) 703-6047; facsimile: (770) 703-6097.

SUPPLEMENTARY INFORMATION:

Comments Invited

How Do I Comment on This Proposed AD?

The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2003-CE-19-AD.” We will date stamp and mail the postcard back to you.

Discussion

What Events Have Caused This Proposed AD?

The FAA has received information of problems with certain Kidde Aerospace P/N 898052 hand-held halon fire extinguishers that are utilized on aircraft. This information shows that the discharge time of the affected fire extinguishers exceeds the maximum allowable discharge time.

The problem is due to incomplete crimping of the siphon tube. Specifically, worn crimping tools were used to crimp the siphon tube. This is causing leakage between the siphon tube and the valve.

The fire extinguishers in question were manufactured from 1995 through 2002 and have a serial number of W-389653 or lower.

What Are the Consequences If the Condition Is Not Corrected?

If these fire extinguishers that had this incomplete crimping of the siphon tube are not removed from service, then the fire extinguishers could function at diminished levels and compromise the level of safety in an emergency situation.

Is There Service Information That Applies To This Subject?

Kidde Aerospace has issued Service Bulletin 898052-26-449, dated October 7, 2002.

What Are the Provisions of This Service Information?

The service bulletin describes the problem discussed in this proposed AD and includes procedures for identifying and returning the affected hand-held halon fire extinguishers.

The FAA's Determination and an Explanation of the Provisions of This Proposed AD

What Has FAA Decided?

After examining the circumstances and reviewing all available information related to the incidents described above, we have determined that:

—The unsafe condition referenced in this document exists or could develop on type design aircraft that utilize Kidde Aerospace P/N 898052 hand-held halon fire extinguishers that were manufactured from 1995 through 2002 and have a serial number of W-389653 or lower;

—The problem fire extinguishers should be removed from service; and

—AD action should be taken in order to correct this unsafe condition.

What Would This Proposed AD Require?

This proposed AD would require you to remove the affected fire extinguishers from service and would prevent you from using any affected fire extinguisher in the future.

How Does the Revision To 14 CFR Part 39 Affect This Proposed AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Fire Extinguishers Would This Proposed AD Impact?

We estimate that this proposed AD could affect 38,695 fire extinguishers.

What Would Be the Cost Impact of This Proposed AD On Owners/Operators of the Affected Airplanes?

We estimate the following costs to remove the affected fire extinguishers from service (including replacing with another unit):

Labor cost | Parts cost | Total cost per airplane
2 workhours × $60 per hour = $120 | No cost for parts. Allow 5 days or more to ship the defective fire extinguishers to Kidde Aerospace | $120.

Compliance Time of This Proposed AD

What Would Be the Compliance Time of This Proposed AD?

The compliance time of this proposed AD would be “within the next 6 months after the effective date of this AD.”

Why Is This Proposed Compliance Time Presented in Calendar Time Instead of Hours Time-in-Service (TIS)?

Although the slow discharge of the fire extinguishers is only a problem during flight, the unsafe condition is not a result of aircraft operation. Therefore, FAA has determined that a compliance based on calendar time should be utilized in this AD in order to ensure that the unsafe condition is addressed on all aircraft in a reasonable time period.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Kidde Aerospace: Docket No. 2003-CE-19-AD.

(a) What products are affected by this AD? This AD affects part number (P/N) 898052 hand-held halon fire extinguishers that were manufactured from 1995 through 2002 and have a serial number of W-389653 or lower.

(b) Who must comply with this AD? Anyone who wishes to operate any aircraft that is certificated in any category and utilizes one of the fire extinguishers identified in paragraph (a) of this AD must comply with this AD.

(c) What problem does this AD address? The actions specified by this AD are intended to remove from service fire extinguishers that have incomplete crimping of the siphon tube. If not removed from service, these fire extinguishers could function at diminished levels and compromise the level of safety in an emergency situation.

(d) What actions must I accomplish to address this problem? To address this problem, you must accomplish the following:

Actions | Compliance | Procedures
(1) Remove from service any P/N 898052 hand-held halon fire extinguisher that was manufactured from 1995 through 2002 and has a serial number of W-389653 or lower. You may not operate any aircraft without the applicable fire extinguishing equipment per FAA regulation | Within the next 6 months after the effective date of this AD | Kidde Aerospace Service Bulletin 898052-26-449, dated October 7, 2002, specifies procedures for identifying the affected fire extinguishers. It also includes procedures for shipping and exchanging the fire extinguishers.
(2) The owner/operator holding at least a private pilot certificate as authorized by section 43.7 of the Federal Aviation Regulations (14 CFR 43.7) may remove the fire extinguisher specified in paragraph (d)(1) of this AD. Make an entry into the aircraft records showing compliance with this portion of the AD in accordance with section 43.9 of the Federal Aviation Regulations (14 CFR 43.9) | Within the next 6 months after the effective date of this AD | Not Applicable.
(3) Do not install, on any aircraft, a Kidde Aerospace P/N 898052 hand-held halon fire extinguisher that was manufactured from 1995 through 2002 and has a serial number of W-389653 or lower | As of the effective date of this AD | Not Applicable.

(e) Can I comply with this AD in any other way? To use an alternative method of compliance or adjust the compliance time, follow the procedures in 14 CFR 39.19. Send these requests to the Manager, Atlanta Aircraft Certification Office. For information on any already approved alternative methods of compliance, contact Charles H. Bowser, Flight Test Engineer, FAA, Atlanta Aircraft Certification Office, One Crown Center, 1895 Phoenix Boulevard, Suite 450, Atlanta, Georgia 30349; telephone: (770) 703-6047; facsimile: (770) 703-6097.

(f) How do I get copies of the documents referenced in this AD? You may get copies of the documents referenced in this AD from Kidde Aerospace, Kidde Technologies, Inc., 4200 Airport Drive, NW, Wilson, North Carolina 27896; telephone: (252) 237-7004. You may view these documents at FAA, Central Region, Office of the Regional Counsel, 901 Locust, Room 506, Kansas City, Missouri 64106.

Issued in Kansas City, Missouri, on May 7, 2003.
David R. Showers,
Acting Manager, Small Airplane Directorate, Aircraft Certification Service.

[FR Doc. 03-11874 Filed 5-12-03; 8:45 am]

BILLING CODE 4910-13-P